DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Novel Attenuated Strains of Mycobacterium Tuberculosis

CE Barry, Y Yuan, D Crane (NIAID)

DHHS Reference No. E-238-97/2 filed Jun 27, 2000

Licensing Contact: Carol Salata; 301/496-7735 ext. 232; e-mail: salatac@od.nih.gov

This invention provides for novel attenuated strains of Mycobacterium tuberculosis and M. bovis. Attenuation is achieved by deleting the gene encoding the alpha-crystallin heat shock protein (“acr gene”). This gene contributes to the virulence of the organism. Since this strain is isogenic with virulent M. tuberculosis but for this deletion, the full complement of antigens remains present and the organism is viable in vitro. The invention provides for vaccines and methods of vaccinating mammals for protection against Mycobacterium sp. that cause tuberculosis. This invention was filed as PCT/US98/14227 on Jul 09, 1998.

Methods and Compositions for Transforming Dendritic Cells and Activating T Cells

Patrick Hwu, Mark E. Reeves, Steven A. Rosenberg (NCI)

DHHS Reference Nos. E-040-96/0 filed Feb. 08, 1996, E-040-96/1 filed Feb. 07, 1997

(PCT/US97/02063); E-040-96/2 filed Jan. 07, 1999

Licensing Contact: Elaine White; 301/496-7056 ext. 282; e-mail: gesee@od.nih.gov

This invention describes a novel method for making transformed dendritic cells, which are potent antigen presenting cells capable of stimulating the immune system. Hematopoietic stem cells are transformed with a specific nucleic acid; the transformed cell is then differentiated into a dendritic cell in vitro. The nucleic acid produces a polypeptide, fragments of which are expressed on the major histocompatibility complex (MHC) receptors on the surface of the dendritic cell. These cells may then be used to activate T cells against specific target antigens. Use of specific antigens for transduction into the dendritic cells is described. The invention therefore may represent a valuable tool for use in the treatment of a number of diseases, including various cancers and viral infections such as HIV.

Dated: March 6, 2001.
Jack Spiegel,
Director, Division of Technology, Development and Transfer, Office of Technology Transfer, National Institutes of Health.

[FR Doc. 01-6273 Filed 3-13-01; 8:45 am]

BILLING CODE 4140-01-P